SECURITIES AND EXCHANGE COMMISSION

Sunshine Act Meeting

Federal Register Citation of Previous Announcement: [To be published Monday, September 24, 2001]

Status: Closed Meeting.

Place: 450 Fifth Street, NW., Washington, DC.

Time and Date of Previously, Announced Meeting: September 26, 2001 at 10 a.m.

Change in the Meeting: Time change.

The closed meeting scheduled for Wednesday, September 26, 2001 at 10 a.m. has been changed to Monday, September 24, 2001 at 11:30 a.m.

Dated: September 24, 2001.
Jonathan G. Katz,
Secretary.

[FR Doc. 01-24182 Filed 9-24-01; 11:57 am]

BILLING CODE 8010-01-M